DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Cooperative Charting Programs.

OMB Control Number: 0648-0022.

Form Number(s): NOAA 77-5.

Type of Request: Regular submission (extension of a current information collection).

Number of Respondents: 600.

Average Hours per Response: United States (U.S.) Power Squadron corrections, 2 hours; U.S. Coast Guard Auxiliary corrections, 3 hours.

Burden Hours: 2,540.

Needs and Uses: This request is for an extension of a current information collection.

The U.S. Coast Guard Auxiliary members report observations of changes that require additions, corrections or revisions to Nautical Charts, on the NOAA Form 77-05. The U.S. Power Squadrons use a Web site to report the same information. The information provided is used by NOAA National Ocean Service to maintain and prepare new additions that are used nationwide by commercial and recreational navigators.

Affected Public: Individuals or households.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: August 19, 2011.
Gwellnar Banks,
Management Analyst, Office of the Chief Information Officer.

[FR Doc. 2011-21608 Filed 8-23-11; 8:45 am]

BILLING CODE 3510-JE-P